NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold sixteen meetings, by videoconference, of the Humanities Panel, a federal advisory committee, during October 2021. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. App.), notice is hereby given of the following meetings:

1. Date: October 5, 2021

This video meeting will discuss applications on the topic of Literary Studies, for the Humanities Collections and Reference Resources grant program, submitted to the Division of Preservation and Access.

2. Date: October 7, 2021

This video meeting will discuss applications on the topics of Film and Media Studies, for the Humanities Collections and Reference Resources grant program, submitted to the Division of Preservation and Access.

3. Date: October 12, 2021

This video meeting will discuss applications on the topic of World Studies, for the Humanities Collections and Reference Resources grant program, submitted to the Division of Preservation and Access.

4. Date: October 14, 2021

This video meeting will discuss applications on the topics of Music and Performing Arts, for the Humanities Collections and Reference Resources grant program, submitted to the Division of Preservation and Access.

5. Date: October 19, 2021

This video meeting will discuss applications on the topic of Indigenous Studies, for the Humanities Collections and Reference Resources grant program, submitted to the Division of Preservation and Access.

6. Date: October 19, 2021

This video meeting will discuss applications on the topic of U.S. History, for the Public Humanities Projects: Exhibitions (Implementation) grant program, submitted to the Division of Public Programs.

7. Date: October 20, 2021

This video meeting will discuss applications on the topics of Arts and Music, for the Media Projects: Production Grants, submitted to the Division of Public Programs.

8. Date: October 21, 2021

This video meeting will discuss applications for the Public Humanities Projects: Humanities Discussions Grants, submitted to the Division of Public Programs.

9. Date: October 21, 2021

This video meeting will discuss applications on the topic of Art History, for the Humanities Collections and Reference Resources grant program, submitted to the Division of Preservation and Access.

10. Date: October 22, 2021

This video meeting will discuss applications on the topic of American Studies, for the Media Projects: Production Grants, submitted to the Division of Public Programs.

11. Date: October 26, 2021

This video meeting will discuss applications on the topics of Native American and Western History, for the Public Humanities Projects: Exhibitions (Implementation) grant program, submitted to the Division of Public Programs.

12. Date: October 26, 2021

This video meeting will discuss applications on the topic of Indigenous Studies, for the Humanities Collections and Reference Resources grant program, submitted to the Division of Preservation and Access.

13. Date: October 27, 2021

This video meeting will discuss applications on the topic of U.S. History, for the Humanities Collections and Reference Resources grant program, submitted to the Division of Preservation and Access.

14. Date: October 27, 2021

This video meeting will discuss applications on the topic of Podcasts, for the Media Projects: Production Grants, submitted to the Division of Public Programs.

15. Date: October 28, 2021

This video meeting will discuss applications on the topic of U.S. History, for the Public Humanities Projects: Exhibitions (Implementation) grant program, submitted to the Division of Public Programs.

16. Date: October 28, 2021

This video meeting will discuss applications on the topic of American Studies, for the Humanities Collections and Reference Resources grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated April 15, 2016.

Dated: September 14, 2021.
Samuel Roth,
Attorney-Advisor, National Endowment for the Humanities.

[FR Doc. 2021-20228 Filed 9-17-21; 8:45 am]

BILLING CODE 7536-01-P